DEPARTMENT OF AGRICULTURE

Forest Service

Revision of Land Management Plan for the Nantahala and Pisgah National Forests

AGENCY: Forest Service, USDA.

ACTION: Notice of Intent to Revise the Land and Resource Management Plan and prepare an Environmental Impact Statement.

SUMMARY: As directed by the National Forest Management Act, the USDA Forest Service is preparing the Nantahala and Pisgah National Forests' revised land management plan (forest plan) and will also prepare an Environmental Impact Statement (EIS) for this revised forest plan. This notice briefly describes the nature of the decision to be made, a general proposed action based on the preliminary identified need to change the existing plan, and information concerning public participation. It also provides estimated dates for filing the EIS and the name and address of the responsible agency official and the individuals who can provide additional information. Finally, this notice identifies the applicable planning rule that will be used for completing this plan revision. The revised forest plan will supersede the existing forest plan that was approved by the Regional Forester in 1987, and significantly amended in 1994. The existing forest plan will remain in effect until the revised forest plan takes effect.

DATES: Comments concerning the preliminary need for change and proposed action provided in this notice will be most useful in the development of the draft revised forest plan and EIS if received by April 28, 2014. The agency expects to release a draft revised forest plan and draft EIS for formal comment by April 1, 2015 and a final revised forest plan and final EIS by June 30, 2016.

ADDRESSES: Comments may be sent via email to: https://cara.ecosystem-management.org/Public//CommentInput?Project=43545 or via facsimile to 828-257-4263. Send or deliver written comments to: National Forests in North Carolina, Attention: Nantahala and Pisgah Plan Revision Team, 160A Zillicoa Street, Asheville, NC 28801.

FOR FURTHER INFORMATION CONTACT: Ruth Berner, Forest Planner, National Forests in North Carolina, 160A Zillicoa Street, Asheville, NC, (828) 257-4862, or at NCplanrevision@fs.fed.us. Information regarding this revision is also available at the National Forests in North Carolina Web site: www.fs.usda.gov/goto/nfsnc/nprevision. Individuals who use telecommunication devices for the deaf (TDD) may call the Federal Information Relay Service (FIRS) at 1-800-877-8339 between 8 a.m. and 8 p.m., Eastern Time Monday through Friday.

SUPPLEMENTARY INFORMATION:

A. Lead and Cooperating Agencies

The USDA Forest Service is the lead agency on revision of the forest plan and the Bureau of Land Management is designated as a cooperating agency in the plan revision.

B. Name and Address of the Responsible Official

The responsible official who will approve the Record of Decision is Kristin Bail, Forest Supervisor for the National Forests in North Carolina, 160A Zillicoa Street, Asheville, NC 28801.

C. Nature of the Decision To Be Made

The Nantahala and Pisgah National Forests (NFs) are preparing an EIS to revise the existing forest plan. The EIS process is meant to inform the Forest Supervisor so that she can decide which alternative best meets the diverse needs of people while conserving the forests' resources, as required by the National Forest Management Act and the Multiple Use Sustained Yield Act. The revised forest plan will describe the strategic intent of managing the Nantahala and Pisgah NFs into the next 10 to 15 years and will address the identified need to change the existing land management plan. A description of the preliminary need for change is provided below. The revised forest plan will provide management direction in the form of desired conditions, objectives, suitability determinations, standards, guidelines, and a monitoring program. It may make changes to the structure and delineation of the Management Areas described in the existing plan, along with possible changes to administratively designated areas and recommendations for changes to other designations. The revised forest plan will also provide a description of the plan area's distinctive roles and contributions within the broader landscape. It is also important to identify the types of decisions that will not be made within the revised forest plan. The authorization of project-level activities on the forests is not a decision made in the forest plan but occurs through subsequent project specific decision-making. Though some strategic guidance may be provided, the designation of routes and trails for motorized vehicle travel, equestrian and mountain bike use are not considered during plan revision, but will be addressed through subsequent planning processes. Some issues (e.g., hunting regulations), although important, are beyond the authority or control of the National Forest System and will not be considered. No decision regarding oil and gas leasing availability will be made, though standards will be brought forward or developed that would serve as mitigations should an availability decision be necessary in the future. No decision will likely be made regarding the management of individual roads, such as might be associated with a Travel Management plan under 36 CFR Part 212.

D. Need for Change and Proposed Action

According to the National Forest Management Act, forest plans are to be revised on a 10 to 15 year cycle. The purpose and need for revising the current forest plan is (1) the forest plan is over 25 years old, (2) since the forest plan was approved in 1987, there have been changes in economic, social, and ecological conditions, new policies and priorities, and new information based on monitoring and scientific research, and (3) to address the preliminary identified needs to change the existing plan, which are summarized below. Extensive public and employee involvement, along with science-based evaluations, have helped to identify theses preliminary needs to change the existing forest plan.

The Proposed Action is to revise the forest plan to address these identified needs to change the existing forest plan. Alternatives to the Proposed Action will be developed to address the significant issues that will be identified through scoping.

What follows is a summary of the preliminary identified needs for change. A more fully developed description of the preliminary need for change, which has been organized into several resource and management topic sections, is available for review on the plan revision Web site at: www.fs.usda.gov/goto/nfsnc/nprevision.

Throughout the Plan

There is a need for the revised plan to address how forest management in all resource areas should be prioritized given varying levels of money and personnel likely to be available over the course of the planning cycle.

There is a need to reconsider the number, arrangement, boundaries of, and plan direction for the management areas.

There is a need to recognize the role of the Nantahala and Pisgah NFs in supporting local economies.

There is a need to include plan direction regarding potential climate change impacts.

There is a need to incorporate opportunities for working across boundaries to manage landscapes with adjacent land managers such as state and federal partners and other land management entities.

Lands and Boundaries of the National Forest

There is a need to ensure the revised plan contains sufficient direction for dealing with land adjustment opportunities.

Minerals and Energy

There is a need to update and clarify plan direction regarding recreational metal detecting, mineral collection, and gold panning; direction for potential energy and mineral developments; and direction for managing geologic hazards.

Timber Production and Non-Timber Forest Products

There is a need to reconsider which areas of the national forests are suitable for timber production, and there is a need to update plan direction for non-timber forest products.

Restoring Ecosystems and Rare Habitats

There is a need to provide direction to proactively manage, maintain, or restore ecosystems, watersheds and rare habitats, to better control non-native invasive species, and to reconsider riparian area management.

There is a need for management direction regarding municipal watersheds and groundwater.

There is a need to include direction for improving aquatic passage in streams.

Wildlife Habitat

There is a need to reconsider direction for wildlife habitat diversity provided in the 1987 Plan. Young forest is in short supply and other habitat components are in need of adjustment.

There is a need to provide direction for managing elk habitat in anticipation of their expanding range.

Scenery

There is a need to update the scenery management system.

Designated Areas

There is a need to clarify and update plan direction regarding designated areas.

There is a need to conduct an inventory and evaluation of potential additions to Wilderness and identify the eligibility of rivers for inclusion in the National Wild and Scenic Rivers System. There is a need to reconsider previous recommendations for Wilderness and update plan direction regarding management of Wilderness and Wilderness Study Areas, and other designated areas.

Roads

There is a need to update plan direction for managing roads.

Cultural Resources

There is a need to update plan direction for managing cultural resource sites.

Conservation Education

There is a need for the plan to promote opportunities for conservation.

Recreation

There is a need to be responsive to changing trends in regard to services, activities and types of facilities desired by the public, but balance those with fiscal reality. The trends in demographics such as the expectation for an older and more ethnically diverse population, the need to promote outdoor physical activities, especially among youth, and the desire to support local cultures and economies should all be considered in establishing a path forward for recreation management on Nantahala and Pisgah NFs.

Trails

There is a need for the plan to better address the sustainability of the trail systems considering changing trends in use, conditions, and maintenance capacity.

Special Uses

There is a need to update plan language regarding special use permitting. Language should be reexamined to determine if it conveys support for appropriate special uses of the national forest that provide public benefits, including economic and other community benefits, while ensuring forest resource impacts are minimized.

E. Public Involvement

Fourteen public meetings from February 2013 through December 2013 were held to solicit comments, opinions, data, and ideas from members of the public as well as representatives of other governmental and non-governmental organizations. Attendance at the 14 meetings totaled over 800 and over 1000 written comments were received.

Comments were also received by email. Eight of the 14 meetings focused on information regarding the assessment phase of the plan revision process, while six of the 14 meetings focused on developing the preliminary need for change statements. Comments received from all of the 14 public meetings, along with information obtained from the assessment, were used to develop the preliminary need for change statements. A draft Assessment was released to the public in September 2013 and comments received from the public since that time have been used to refine the Assessment. Any comments related to the Assessment received following the publication of this Notice may be considered in describing the Affected Environment part of the Environmental Impact Statement.

F. Issues and Preliminary Alternatives

Information gathered during this scoping period, as well as other information, will be used to prepare the draft EIS. At this time, the Nantahala and Pisgah National Forests are seeking input on the Proposed Action. From these comments the Forest Service will identify issues that will serve as a focus for developing a proposed plan and alternatives to be analyzed in the EIS.

G. Scoping Process

Written comments received in response to this notice will be analyzed to complete the identification of the need to change the existing plan, further develop the proposed action, and identify potential significant issues. Significant issues will, in turn, form the basis for developing alternatives to the proposed action. Comments on the preliminary need to change and proposed action will be most valuable if received by April 28, 2014, and should clearly articulate the reviewer's opinions and concerns. Comments received in response to this notice, including the names and addresses of those who comment, will be part of the public record. Comments submitted anonymously will be accepted and considered, however, see Section I concerning the Objection process and the requirements for filing an objection. Refer to the Forest's Web site (www.fs.usda.gov/goto/nfsnc/nprevision) for information on when public meetings will be scheduled for refining the proposed action and identifying possible alternatives to the proposed action.

H. Applicable Planning Rule

Preparation of the revised forest plan for the Nantahala and Pisgah National Forests began with the publication of a Notice of Initiation in the Federal Register on October 3, 2013 [78 FR 61329] and was initiated under the planning procedures contained in the 2012 Forest Service planning rule (36 CFR 219 (2012)).

I. Decision Will Be Subject to Objection

The decision to approve the Revised Land Management Plan for the Nantahala and Pisgah National Forests will be subject to the Objection process identified in 36 CFR Part 219 Subpart B (219.50 to 219.62). According to 36 CFR 219.53(a), those who may file an objection are individuals and entities who have submitted substantive formal comments related to a plan revision during the opportunities provided for public comment during the planning process.

J. Permits or Licenses Required To Implement the Proposed Action

No permits or licenses are needed for the development of a Land and Resource Management Plan.

K. Documents Available for Review

The complete Preliminary Need for Change document, the Assessment Report including specialist reports, summaries of the public meetings and public meeting materials, and public comments are posted on the Forest's Web site at: www.fs.usda.gov/goto/nfsnc/nprevision. As necessary or appropriate, the material available on this site will be further adjusted as part of the planning process using the provisions of the 2012 planning rule.

Authority: 16 U.S.C. 1600-1614; 36 CFR Part 219 [77 FR 21260-21273].

Dated: March 3, 2014.
Julia K. Riber,
Acting Forest Supervisor.

[FR Doc. 2014-05374 Filed 3-11-14; 8:45 am]

BILLING CODE 3410-ES-P